DEPARTMENT OF COMMERCE

National Oceanic and Atmospheric Administration

Availability of Seats for the Gulf of the Farallones National Marine Sanctuary Advisory Council

AGENCY: National Marine Sanctuary Program (NMSP), National Ocean Service (NOS), National Oceanic and Atmospheric Administration, Department of Commerce (DOC).

ACTION: Notice and request for applications.

SUMMARY: The Gulf of the Farallones National Marine Sanctuary (GFNMS or Sanctuary) is seeking applicants for the following seats on its Sanctuary Advisory Council (Advisory Council):

At-Large for San Francisco/San Mateo Counties (alternate).

Education (primary and alternate).

Maritime Activities/Recreational (primary and alternate).

Research (primary and alternate).

Applicants are chosen based upon their particular expertise and experience in relation to the seat for which they are applying; community and professional affiliations; philosophy regarding the protection and management of marine resources; and possibly the length of residence in the area affected by the Sanctuary. Applicants who are chosen as members should expect to serve either a two- or three-year term, pursuant to the Advisory Council's Charter.

DATES: Applications are due by August 15, 2006.

ADDRESSES: Application kits may be obtained from Gulf of the Farallones National Marine Sanctuary, Building 201 Fort Mason, San Francisco, CA 94950, (415) 561-6622, and over the Internet at: http://farallones.noaa.gov/manage/sac.html. Completed applications should be sent to the above mailing address.

FOR FURTHER INFORMATION CONTACT: Gulf of the Farallones National Marine Sanctuary, Building 201 Fort Mason, San Francisco, CA 94950, (415) 561-6622.

SUPPLEMENTARY INFORMATION: The Gulf of the Farallones National Marine Sanctuary (GFNMS) was established in 1981 to protect the near shore waters of the California Coast north and west of San Francisco, and the offshore Farallon Islands. The sanctuary includes nursery and spawning grounds for commercially important species, over 33 species of marine mammals, and 15 species of breeding seabirds. The Farallon Islands themselves contain the largest concentration of breeding seabirds in the contiguous United States. Key habitats include coastal beaches, rocky shores, mud and tidal flats, salt marsh, estuaries, and pelagic waters.

Additionally, the area within the Monterey Bay National Marine Sanctuary (MBNMS) north of the San Mateo/Santa Cruz county boundary is administered by the GFNMS. The legal boundaries of each sanctuary remain as is. The GFNMS is responsible for developing and managing most sanctuary programs within this area, with the exception that the MBNMS is responsible for the Water Quality Protection Program.

The GFNMS Advisory Council was originally chartered in 2001, with seven voting members. It has recently been expanded to 12 voting members. The primary focus of the Council is to advise the Sanctuary Manager regarding the implementation of the sanctuary management plan, in conjunction with the contiguous Monterey Bay and Cordell Bank National Marine Sanctuaries.

Authority: 16 U.S.C. Sections 1431, et seq.

(Federal Domestic Assistance Catalog Number 11.429 Marine Sanctuary Program)
Dated: June 5, 2006.
Daniel J. Basta,
Director, National Marine Sanctuary Program, National Oceanic and Atmospheric Administration.

[FR Doc. 06-5422 Filed 6-14-06; 8:45 am]

BILLING CODE 3510-NK-M